DEPARTMENT OF STATE

[Public Notice 3681]

Shipping Coordinating Committee; Notice of Meetings

The Shipping Coordinating Committee will conduct open meetings at 9:30 am on Thursday, September 6, and October 4, November 1, December 6, 2001 and January 3, 2002. These meetings will be held in the room 3328, Department of Transportation Headquarters Building, 400 Seventh Street, SW., Washington, DC 20950. The purpose of these meetings is to prepare for the Sixth Session of the International Maritime Organization (IMO) Subcommittee on Radiocommunications and Search and Rescue which is scheduled for the week of February 18-22, 2002, at the IMO headquarters in London, England.

Among other things, the items of particular interest are:

• Maritime Safety Information for the Global Maritime Distress and Safety System (GMDSS).

• NAVTEX (Navigational Text) Display methods

• Bridge to Bridge Communications

• GMDSS False Alerts

• Positions for the International Telecommunications Union World Radio Conference 2003

• New Technologies

Further information, including meeting agendas with meeting room numbers, minutes, and input papers, can be obtained from the Coast Guard Navigation Information Center Internet World Wide Web by entering: http://www.navcen.uscg.gov/marcomms.

Members of the public may attend these meetings up to the seating capacity of the rooms. Interested persons may seek information, including meeting room numbers, by writing: Mr. Russell S. Levin, U.S. Coast Guard Headquarters, Commandant (G-SCT-2), Room 6509, 2100 Second Street, SW., Washington, DC 20593-0001, by calling: (202) 267-1389, or by sending Internet electronic mail to rlevin@comdt.uscg.mil.

July 30, 2001.
Stephen Miller,
Executive Secretary, Shipping Coordinating Committee, Department of State.

[FR Doc. 01-19604 Filed 8-3-01; 8:45 am]

BILLING CODE 4710-07-P